DEPARTMENT OF AGRICULTURE

Agricultural Marketing Service

[Docket Number FV-05-302]

United States Standards for Grades of Snap Beans

AGENCY: Agricultural Marketing Service, USDA.

ACTION: Notice; withdrawal.

SUMMARY: The Agricultural Marketing Service (AMS) is withdrawing the notice soliciting comments on its proposal to amend the voluntary United States Standards for Grades of Snap Beans. After reviewing and considering the comments received, the Agency has decided not to proceed with this action.

DATES: Effective Date: June 22, 2005.

FOR FURTHER INFORMATION CONTACT: David Priester, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; E-mail David.Priester@usda.gov. The United States Standards for Grades of Snap Beans are available either through the address cited above or by accessing the Fresh Products Branch Web site at: http://www.ams.usda.gov/standards/stanfrfv.htm.

Background

At a 2003 meeting with the Fruit and Vegetable Industry Advisory Committee, AMS was asked to review all the fresh fruit and vegetable grade standards for their usefulness in serving the industry. AMS had identified the United States Standards for Grades of Snap Beans for a possible revision. The United States Standards for Grades of Snap Beans were last amended July 5, 1990.

On March 11, 2005, a notice requesting comments on the possible revision of the standards by allowing percentages to be determined by count and not weight as well as other changes was published in the Federal Register (70 FR 12175) with the comment period ending May 10, 2005.

Three comments were received during the official period for comment. One comment from an industry member supported the proposed revision. Two comments from industry groups did not support revising the standard. Both of the comments not supporting the revision noted concerns over the accuracy or representative nature of a count-based inspection. The industry groups also noted that size variation of the individual bean as well as foreign material or debris in the sample could affect the inspection in a different manner if inspected on a count and not a weight basis. In view of the concerns from the industry, the proposed changes are not warranted at this time, thus the notice is being withdrawn. This withdrawal will provide industry representatives with an opportunity for further discussions in the areas of concern.

After reviewing and considering the comments received, the Agency has decided not to proceed with the action. Therefore, the notice published March 11, 2005, (70 FR 12172) is withdrawn.

Authority: 7 U.S.C. 1621-1627.

Dated: June 16, 2005.
Kenneth C. Clayton,
Acting Administrator, Agricultural Marketing Service.

[FR Doc. 05-12256 Filed 6-21-05; 8:45 am]

BILLING CODE 3410-02-P